DEPARTMENT OF AGRICULTURE

Animal and Plant Health Inspection Service

[Docket No. APHIS-2006-0076]

Availability of an Environmental Assessment and Finding of No Significant Impact for a Biological Control Agent for Old World Climbing Fern

AGENCY: Animal and Plant Health Inspection Service, USDA.

ACTION: Notice.

SUMMARY: We are advising the public that an environmental assessment and finding of no significant impact have been prepared by the Animal and Plant Health Inspection Service relative to the release of a nonindigenous gall mite, Floracarus perrepae, for the biological control of Old World climbing fern, Lygodium microphyllum, in the continental United States. Based on its finding of no significant impact, the Animal and Plant Health Inspection Service has determined that an environmental impact statement need not be prepared.

FOR FURTHER INFORMATION CONTACT: Dr. Robert V. Flanders, Chief, Pest Permit Evaluation Branch, PPQ, APHIS, 4700 River Road Unit 133, Riverdale, MD 20737-1228; (301) 734-5930.

SUPPLEMENTARY INFORMATION:

Background

Old World climbing fern, Lygodium microphyllum, is a climbing fern that has a large native range that extends through much of the Old World tropics. It has become established in central and southern peninsular Florida, where it grows in a number of wetland and mesic (having a moderate supply of moisture) habitats including hammocks, cypress swamps, flatwoods, bayheads, and disturbed sites.

The climbing fern is a highly invasive, exotic weed that climbs over plants, including tall trees, to form massive walls of vegetation. It also forms thick mats on the ground that smother native plants. New infestations can arise great distances from existing populations because the weed produces millions of spores that are spread by wind and other physical carriers. A single spore is capable of starting a new infestation. In addition, dense strands of Old World climbing fern present a major fire hazard.

The biocontrol agent that is the subject of this notice, Floracarus perrepae, is a gall mite in the insect family Eriophyidae and is native to Australia and tropical Asia. The adult mites feed on young leaflets of the target weed, L. microphyllum, inducing the leaf margins to curl into galls. Female mites lay an average 60 eggs inside a gall. The eggs hatch in 5 days and immature mites feed on the specialized tissue within the gall, requiring 4 days to become adults. Galled leaflets are often infected by secondary ambient pathogens and have reduced life spans. Plants infested with the mite have slower rates of growth than uninfested plants.

The mite is also host specific. Host specificity tests conducted in Australia indicate that F. perrepae is specific to only two Lygodium species (the target weed L. microphyllum and the Australian fern Lygodium reticulatum).

On May 23, 2006, we published in the Federal Register (71 FR 29607-29608, Docket No. APHIS-2006-0076) a notice ¹ in which we announced the availability, for public review and comment, of an environmental assessment (EA) that examined the potential environmental impacts associated with the proposed release of this biological control agent into the continental United States.

¹ To view the notice, environmental assessment, and finding of no significant impact, go to http://www.regulations.gov, click on the “Advanced Search” tab, and select “Docket Search.” In the Docket ID field, enter APHIS-2006-0076, then click “Submit.” Clicking on the Docket ID link in the search results page will produce a list of all documents in the docket.

We solicited comments on the EA for 30 days ending June 22, 2006. We did not receive any comments by that date.

In this document, we are advising the public of our finding of no significant impact (FONSI) regarding the release of the nonindigenous gall mite F. perrepae as a biological control agent to reduce the severity and extent of Old World climbing fern infestation in the continental United States. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 19th day of June 2007.
Kevin Shea,
Acting Administrator, Animal and Plant Health Inspection Service.

[FR Doc. E7-12240 Filed 6-22-07; 8:45 am]

BILLING CODE 3410-34-P